DEPARTMENT OF TRANSPORTATION

Federal Aviation Administration

14 CFR Part 39

[Docket No. FAA-2018-0754; Product Identifier 2018-CE-028-AD; Amendment 39-19365; AD 2018-17-11]

RIN 2120-AA64

Airworthiness Directives; Linstrandt Propane Cylinders

AGENCY: Federal Aviation Administration (FAA), DOT.

ACTION: Final rule; request for comments.

SUMMARY: We are adopting a new airworthiness directive (AD) for certain Linstrandt T30 propane cylinders installed on hot air balloons. This AD results from mandatory continuing airworthiness information (MCAI) issued by the aviation authority of another country to identify and correct an unsafe condition on an aviation product. The MCAI describes the unsafe condition as welding defects on the propane cylinder that could result in leaking of liquid propane. We are issuing this AD to require actions to address the unsafe condition on these products.

DATES: This AD is effective September 24, 2018.

We must receive comments on this AD by October 19, 2018.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

Examining the AD Docket

You may examine the AD docket on the internet at http://www.regulations.gov by searching for and locating Docket No. FAA-2018-0754; or in person at Docket Operations between 9 a.m. and 5 p.m., Monday through Friday, except Federal holidays. The AD docket contains this AD, the regulatory evaluation, any comments received, and other information. The street address for Docket Operations (telephone (800) 647-5527) is in the ADDRESSES section. Comments will be available in the AD docket shortly after receipt.

FOR FURTHER INFORMATION CONTACT: Mike Kiesov, Aerospace Engineer, FAA, Small Airplane Standards Branch, 901 Locust, Room 301, Kansas City, Missouri 64106; telephone: (816) 329-4144; fax: (816) 329-4090; email: mike.kiesov@faa.gov.

SUPPLEMENTARY INFORMATION:

Discussion

The European Aviation Safety Agency (EASA), which is the Technical Agent for the Member States of the European Community, has issued EASA AD No. 2018-0107, dated May 15, 2018, corrected on May 22, 2018 (referred to after this as “the MCAI”), to correct an unsafe condition for the specified products. The MCAI states:

A review of cylinder production records has shown that the affected cylinders have unacceptable welding defects.

This condition, if not detected and corrected, could result in an uncontrolled release of liquid propane and consequent fire or explosion, with consequent injury to balloon occupants and persons on the ground.

To address this potential unsafe condition, Cameron Balloons Limited issued the SB, providing instructions to remove the affected cylinders from service.

For the reasons described above, this [EASA] AD requires replacement of the affected cylinders with serviceable parts.

This [EASA] AD is re-published to correct the list of TCDS numbers. The TCDS EASA.SAS.BA.001 was erroneously introduced, and has been removed, as it is not for a hot air balloon.

You may examine the MCAI on the internet at http://www.regulations.gov by searching for and locating Docket No. FAA-2018-0754.

FAA's Determination and Requirements of the AD

This product has been approved by the aviation authority of another country, and is approved for operation in the United States. Pursuant to our bilateral agreement with this State of Design Authority, they have notified us of the unsafe condition described in the MCAI. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because replacement of the propane cylinders is required within 30 days. Therefore, we find good cause that notice and opportunity for prior public comment are impracticable. In addition, for the reason stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2018-0754; Product Identifier 2018-CE-028-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 10 propane cylinders. We also estimate that it would take about 2 work-hours to replace a cylinder, at an average labor rate of $85 per work-hour, and required parts would cost about $3,000 per product. Based on these figures, we estimate a total cost of $3,170 per balloon.

We know the unsafe condition affects 10 propane cylinders worldwide; however, we have no way of knowing the number of hot air balloons on the U.S. Registry that may have an affected propane cylinder installed. As such, we have no way of estimating the potential costs of compliance on U.S. operators.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-17-11 Linstrandt Propane Cylinders: Amendment 39-19365; Docket No. FAA-2018-0754; Product Identifier 2018-CE-028-AD.

(a) Effective Date

This AD becomes effective September 24, 2018.

(b) Affected ADs

None.

(c) Applicability

This AD applies to Linstrandt T30 part number (P/N) CY050001 propane cylinders, serial numbers (S/N) 0227/0158, 0316/-, 0321/-, 0322/0150, 0446/0152, 0534/0145, 0539/-, 0543/0154, 0626/0153, and 0638/0151; installed on hot air balloons.

(d) Subject

Air Transport Association of America (ATA) Code 28: Fuel.

(e) Reason

This AD was prompted by mandatory continuing airworthiness information (MCAI) issued by the aviation authority of another country to identify and correct an unsafe condition on an aviation product. The MCAI describes the unsafe condition as welding defects on the propane cylinders that could result in leaking of liquid propane. We are issuing this AD to prevent leaking of liquid propane that could lead to fire or explosion.

(f) Actions and Compliance

(1) If any hot air balloon has an affected P/N and serial number propane cylinder, as listed in paragraph (c) of this AD, within 30 days after September 24, 2018 (the effective date of this AD), remove from service Linstrandt T30 propane cylinder P/N CY050001 and replace with a propane cylinder that is not listed in paragraph (c) of this AD.

(2) After September 24, 2018 (the effective date of this AD), do not install on any hot air balloon a propane cylinder listed in paragraph (c) of this AD.

(g) Other FAA AD Provisions

The following provision also applies to this AD:

(1) Alternative Methods of Compliance (AMOCs): The Manager, Small Airplane Standards Branch, FAA, has the authority to approve AMOCs for this AD, if requested using the procedures found in 14 CFR 39.19. Send information to ATTN: Mike Kiesov, Aerospace Engineer, FAA, Small Airplane Standards Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Reserved.

(h) Related Information

Refer to MCAI EASA AD No. 2018-0107, dated May 15, 2018, corrected on May 22, 2018, for related information. You may examine the MCAI on the internet at http://www.regulations.gov by searching for and locating Docket No. FAA-2018-0754.

(i) Material Incorporated by Reference

None.

Issued in Kansas City, Missouri, on August 10, 2018.
Melvin J. Johnson,
Deputy Director, Policy & Innovation Division, Aircraft Certification Service.

[FR Doc. 2018-18990 Filed 8-31-18; 8:45 am]

BILLING CODE 4910-13-P